DEPARTMENT OF THE INTERIOR

U.S. Geological Survey

Agency Information Collection: Comment Request

AGENCY: United States Geological Survey (USGS), Interior.

ACTION: Notice of a new collection.

SUMMARY: To comply with the Paperwork Reduction Act of 1995 (PRA), we are notifying the public that we will submit to OMB a new information collection request (ICR) for review and approval. This notice provides the public an opportunity to comment on the paperwork burden of this collection.

DATES: You must submit comments on or before April 7, 2009.

ADDRESSES: Send your comments regarding this ICR to Phadrea Ponds, Information Collections Clearance Officer, at U.S. Geological Survey, 2150-C Center Avenue, Fort Collins, CO 80525 (mail); (970) 226-9230 (fax); or pponds@usgs.gov (e-mail). Please reference Information Collection 1028—NEW, NATSURV.

FOR FURTHER INFORMATION CONTACT: Lynne Koontz by mail at U.S. Geological Survey, 2150-C Center Avenue, Fort Collins, CO 80526, or by telephone at (970) 226-9384.

SUPPLEMENTARY INFORMATION: Title: Visitor Satisfaction and Spending at Pompeys Pillar National Monument.

OMB Control Number: 1028—NEW.

Abstract: The USGS will conduct a survey of visitors to Pompeys Pillar National Monument and Shepherd Ah Nei Recreation Area near Billings, MT. The survey will be used to better understand visitor experiences and spending in the local community. Respondents will have the option to complete the survey on-site or return it by mail. We will use this survey to measure visitor satisfaction with current visitor services and facilities and their desire for future services and facilities. Information from this survey will provide BLM managers, planners, and visitor services professionals with scientifically sound data that can be used to prepare resource management planning documents and understand the economic impact of visitors to the local community.

We will protect information from respondents considered proprietary under the Freedom of Information Act (5 U.S.C. 552) and implementing regulations (43 CFR part 2), and under regulations at 30 CFR 250.197, “Data and information to be made available to the public or for limited inspection.” Responses are voluntary. No questions of a “sensitive” nature are asked.

Frequency of Collection: This is a one-time survey.

Respondent's Obligation: Voluntary.

Estimated Number and Description of Respondents: Approximately 600 visitors of Pompeys Pillar National Monument and 600 visitors at Shepherd Ah Nei Recreation Area near Billings, MT.

Estimated Number of Responses: 1200 responses.

Annual Burden Hours: 200 hours.

Estimated Annual Reporting and Recordkeeping “Hour” Burden: We estimate the public reporting burden will average 10 minutes per response. This includes the time for reviewing instructions and completing the survey.

Estimated Annual Reporting and Recordkeeping “Non-Hour Cost”: We have not identified any “non-hour cost” burdens associated with this collection of information.

Public Disclosure Statement: The PRA (44 U.S.C. 3501, et seq.) provides that an agency may not conduct or sponsor and you are not required to respond to, a collection of information unless it displays a currently valid OMB control number.

Comments: We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done. To comply with the public process, we publish this Federal Register notice announcing that we will submit this ICR to OMB for approval. The notice provided the required 60 day public comment period.

USGS Information Collection Clearance Officer: Phadrea Ponds, 970-226-9445.

Dated: January 28, 2009.
Sue Haseltine,
Associate Director for Biology.

[FR Doc. E9-2545 Filed 2-5-09; 8:45 am]

BILLING CODE 4311-AM-P